DEPARTMENT OF JUSTICE

Notice of Lodging Proposed Consent Decree

In accordance with Departmental Policy, 28 CFR 50.7, notice is hereby given that a proposed consent decree in United States v. Triad Mining, Inc., Civil Action No. 1:12-cv-0026, was lodged with the United States District Court for the Southern District of Indiana on January 11, 2012.

This proposed Consent Decree concerns a complaint filed by the United States against the Defendant, pursuant to Sections 309(b) and (d) of the Clean Water Act (“CWA”), 33 U.S.C. 1319(b) and (d), to obtain injunctive relief from and impose civil penalties against the Defendant for the discharge of pollutants into waters of the United States without authorization by the United States, in violation of CWA Section 301(a), 33 U.S.C. 1311(a). The proposed Consent Decree resolves these allegations by requiring the Defendant to restore and/or mitigate the impacted areas and to pay a civil penalty.

The Department of Justice will accept written comments relating to this proposed Consent Decree for thirty (30) days from the date of publication of this Notice. Please address comments to Perry Rosen, Attorney, P.O. Box 7611, Washington, DC 20044 and refer to United States v. Triad Mining, Inc., DJ# 90-5-1-1-18796.

The proposed Consent Decree may be examined at the Clerk's Office, United States District Court for the Southern District of Indiana, 46 East Ohio Street Room 105, Indianapolis, Indiana, 46204. In addition, the proposed Consent Decree may be viewed at http://www.justice.gov/enrd/Consent_Decrees.html.

Cherie L. Rogers,
Assistant Section Chief, Environmental Defense Section, Environment & Natural Resources Division.

[FR Doc. 2012-914 Filed 1-18-12; 8:45 am]

BILLING CODE P